DEPARTMENT OF HEALTH AND HUMAN SERVICES

Centers for Disease Control and Prevention

[Program Announcement 02124]

Collaborative Efforts to Prevent Child Sexual Abuse; Notice of Availability of Funds

A. Purpose

The Centers for Disease Control and Prevention (CDC) announces the availability of fiscal year (FY) 2002 funds for a cooperative agreement program for the project, “Collaborative Efforts to Prevent Child Sexual Abuse (CSA)”. This program addresses the “Healthy People 2010” focus area of Injury and Violence Prevention.

Background

Approximately one million children in the United States annually are identified by child protective services as victims of maltreatment. Additionally, in 1999, over 88,000 substantiated or indicated cases of child sexual abuse were identified by the Administration on Children, Youth and Families. Child sexual abuse is associated with negative outcomes both in childhood (e.g., anxiety, depression, self-harming behavior, Post Traumatic Stress Disorder (PTSD), verbal and physical aggression, poor academic achievement, and low self-esteem) as well as in adulthood (e.g., anxiety, depression, self-harming behavior, substance abuse, PTSD, and high risk sexual behavior).

The goal of preventing child maltreatment requires a comprehensive approach that focuses on all forms of maltreatment including child sexual abuse. Whereas programs to prevent child physical abuse, emotional abuse, and neglect have focused their efforts on preventing perpetration, nearly all child sexual abuse prevention programs have focused on preventing victimization by teaching children personal safety skills. Some have argued that these children-focused programs are predicated on the belief that children can prevent their own sexual abuse. No matter what the basis, the victimization prevention programs are deeply entrenched (i.e. many schools, churches, and social organizations that deal with young children have them) and perpetration/offender based prevention programs are practically nonexistent.

A more comprehensive approach to the issue of child sexual abuse is the introduction of more perpetration/offender based prevention programs to complement the victimization prevention programs already in place. This announcement intends to support projects that utilize already existing infrastructures in order to broaden the prevention efforts. In every state, there are existing organizations whose mission is the prevention of child maltreatment or the prevention of sexual violence among adult women. In addition, there are organizations in the country that focus on the prevention of child sexual abuse perpetration. In the proposed project, the expertise of these agencies will be brought to bear on the issue of moving the field toward preventing perpetration.

The purpose of this program is to create statewide prevention collaboratives to promote the development and implementation of child sexual abuse prevention programs that focus on adult or community responsibility and response in the prevention of perpetration, rather than focusing solely on the prevention of victimization.

For the purposes of this announcement, a “prevention collaborative” includes efforts that are broadly defined and involves a partnership that combines the expertise of child abuse prevention, sexual abuse prevention and public health agencies/organizations. In addition, the definition of child sexual abuse used for this project comes from the American Professional Society on the Abuse of Children (APSAC) Handbook on Child Maltreatment (2nd edition, 2002). The definition is as follows, “Child Sexual abuse involves any sexual activity with a child where consent is not or cannot be given. This includes sexual contact that is accomplished by force or threat of force, regardless of the age of the participants, and all sexual contact between an adult and a child, regardless of whether there is deception or the child understands the sexual nature of the activity. Sexual contact between an older and a younger child also can be abusive if there is a significant disparity in age, development, or size, rendering the younger child incapable of giving informed consent. The sexually abusive acts may include sexual penetration, sexual touching, or non-contact sexual acts such as exposure or voyeurism.”

Measurable outcomes of the program will be in alignment with the following performance goal for the National Center for Injury Prevention and Control (NCIPC): Reduce the Risk of Child Maltreatment.

B. Eligible Applicants

Assistance will be provided only to:

(1) The health departments of States or their bona fide agents, including the District of Columbia, the Commonwealth of Puerto Rico, the Virgin Islands, the Commonwealth of the Northern Mariana Islands, American Samoa, Guam, the Federated States of Micronesia, the Republic of the Marshall Islands, the Republic of Palau, and federally recognized Indian tribal governments; or

(2) An agency or organization with state-wide reach and expertise in the primary and/or secondary prevention of child maltreatment or sexual assault prevention. These agencies/organizations could be governmental or non-governmental.

Only one application per state will be funded. State-level agencies and organizations are encouraged to collaborate in the submission of a single state application.

Note: Title 2 of the United States Code section 1611 states that an organization described in section 501(c)(4) of the Internal Revenue Code that engages in lobbying activities is not eligible to receive Federal funds constituting an award, grant or loan.

C. Availability of Funds

Approximately $400,000 is available in FY 2002 to fund approximately 2 awards. It is expected that the average award will be $200,000, ranging from $150,000 to $250,000. It is expected that the awards will begin on or about September 30, 2002 and will be made for a 12-month budget period within a project period of up to 3 years. Funding estimates may change.

Continuation awards within an approved project period will be made on the basis of satisfactory progress as evidenced by required reports and the availability of funds.

Funding Preferences

Preference will be given to applications that demonstrate that this project will be a collaborative effort involving state level entities (e.g., state public health agencies, other state governmental agencies, state level not-for-profit organizations) with expertise in child maltreatment prevention, sexual violence prevention and public health approaches to prevention.

D. Program Requirements

In conducting activities to achieve the purpose of this program, the recipient will be responsible for the activities under 1. (Recipient Activities), and CDC will be responsible for the activities listed under 2. (CDC Activities).

1. Recipient Activities

a. Develop and conduct a baseline statewide inventory of child sexual abuse prevention programs including information on number of programs, intended audience, content, and resources devoted to programs.

b. Identify stakeholders, programs and institutions that should be involved in promoting programs that support adult or community responsibility and response to prevent perpetration.

c. Identify a perpetrator/offender-focused prevention program to be piloted in each state.

d. Implement and evaluate the chosen program in as many settings as possible.

e. Complete a follow-up statewide inventory of child sexual abuse programs.

f. Collaborate with other cooperative agreement recipients, CDC, and a CDC-selected evaluation contractor in the development of core components for the statewide inventory, perpetrator-focused prevention programs, and cross-site evaluation.

g. Attend and participate in technical assistance and planning meetings coordinated by the CDC for all cooperative agreement recipients (two staff members; two meetings per year in Atlanta; two days per meeting).

h. Submit required reports on time.

2. CDC Activities

a. Provide technical assistance and consultation, if requested, on all aspects of recipient activities, including:

(1) Development of the baseline statewide inventory of child sexual abuse prevention programs.

(2) Perpetrator-focused prevention

(3) Cross-site evaluation

b. Facilitate the cross-site evaluation in collaboration with cooperative agreement recipients.

c. Facilitate the technical assistance and planning meetings (two meetings per year in Atlanta, two days per meeting).

d. Review evaluation information for presentation and publication.

E. Content

The program announcement title and number must appear in the application. Use the information in the Program Requirements, Other Requirements, and Evaluation Criteria sections to develop the application content. Your application will be evaluated on the criteria listed, so it is important to follow them in laying out your program plan. The proposal narrative should be no more than 15 pages, double-spaced, printed on one side, with one-inch margins and unreduced font.

The narrative should consist of at minimum:

1. Applicant Organization History, Description and Capacity

2. Applicant's Plan for Implementing this Cooperative Agreement

3. Applicant's Management and Staffing

4. Collaboration

5. Measures of Effectiveness

6.Budget

F. Submission and Deadline

Submit the original and two copies of PHS 5161-1 (OMB Number 0920-0428). Forms are available in the application kit and at the following Internet address: http://www.cdc.gov/od/pgo/forminfo.htm

Application forms must be submitted in the following order:

Cover Letter

Table of Contents

Application

Budget Information Form

Budget Justification

Checklist

Assurances

Certifications

Disclosure Form

HIV Assurance Form (if applicable)

Human Subjects Certification Form

Indirect Costs Rate agreement (if applicable)

Narrative

The application must be received by 5 p.m Eastern Time August 19, 2002. Submit the application to: Technical Information Management—PA02124, Procurement and Grants Office, Centers for Disease Control and Prevention 2920 Brandywine Rd, Room 3000, Atlanta, GA 30341-4146.

Deadline: Applications shall be considered as meeting the deadline if they are received before 5 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications which do not meet the above criteria will not be eligible for competition. Applicants will be notified of their failure to meet the submission requirements.

G. Evaluation Criteria

Applicants are required to provide measures of effectiveness that will demonstrate the accomplishment of the various identified objectives of the cooperative agreement. Measures of Effectiveness must relate to the performance goal stated in section “A. Purpose” of this announcement. Measures must be objective and quantitative and must measure the intended outcome. These Measures of Effectiveness shall be submitted with the application and shall be an element of evaluation.

Each application will be evaluated individually against the following criteria by an independent review group appointed by CDC:

1. Measures of Effectiveness (not rated)

The extent to which the applicant has provided measures of effectiveness.

2. Applicant Organization History, Description and Capacity (20 points)

The extent to which the applicant has documented:

a. Their history as well as their current ability to provide a leadership function in statewide efforts to prevent child abuse, sexual violence, or public health prevention.

b. Their history and capacity in providing leadership and guidance to local level efforts, including a clear description of their linkages with and role in support for local level efforts.

c. Their history and a description of their capacity to provide leadership in involving other agencies with statewide reach to carry out the objectives of this project.

d. Their organizational capacity to realize the objectives of the cooperative agreement.

3. Applicant's Plan for Implementing this Cooperative Agreement (35 points)

The extent to which the applicants work plan and timetable includes:

a. The identification of state level agencies/institutions/organizations to be named as members of the prevention collaborative, including a description of the areas of expertise covered by each; the specific roles and responsibilities of each in implementing this cooperative agreement; methods for making decisions; etc.

b. Memorandum of agreement and understanding or letters of support from these organizations as an appendix, and the extent to which these letters indicate that the applicant and the other collaborating organizations have established a “working partnership” which specifies the active roles each will have in the project.

c. Plans for baseline and follow-up statewide inventories of child sexual abuse prevention programs.

d. A description of the process used (or to be used) in identifying a perpetrator/offender-focused CSA prevention project for implementation (i.e., what evidence will be used to make this decision).

e. Plans to implement the pilot prevention program in as many settings as possible throughout the state, including a description of pilot site selection criteria.

f. Plans to evaluate the pilot prevention program including measures of effectiveness that will demonstrate the accomplishment of the identified objectives of the cooperative agreement. Measures should be objective/quantifiable and measure the intended outcome.

g. Plans to train and support staff regarding the responsibilities of this cooperative agreement, and the availability of staff and facilities to carry out this cooperative agreement.

4. Applicant's Management and Staffing (20 points)

The extent to which the applicant has included:

a. Their management operation, structure and/or organization. An organizational chart of the applicant's organization should be included as an Appendix. Additionally, the applicant should include within their management plan the specific role and mechanisms to be established to ensure effective coordination, communication and shared decision making among the involved agencies/organizations.

b. A staffing plan for the project, noting existing staff as well as additional staffing needs. The responsibilities of individual staff members including the level of effort and allocation of time for each project activity by staff position should be included. The specific staff positions within the other involved state level agencies, both in-kind and funded, should be described.

c. Resumes and/or position descriptions (i.e. for and in-kind and proposed positions to be funded under this cooperative agreement) should be included as an appendix. This should include the use of consultants, as appropriate, from the identified perpetrator focused program.

d. A continuation plan in the event that key staff leave the project, how new staff will be smoothly integrated into the project, and assurances that resources will be available when needed for this project

e. Previous experience of project staff to submit required reports on time

5. Collaboration (25 Points)

The extent to which the applicant:

a. Demonstrates an ability to identify and engage various stakeholders in past projects, and thus, its capacity to identify stakeholders that should be involved in promoting, implementing and evaluating programs that support adult or community responsibility and response to prevent CSA perpetration.

b. A willingness to collaborate with other cooperative agreement recipients and CDC in the development of core components for the statewide inventory, perpetrator/offender-focused prevention programs, and cross-site evaluation.

c. A willingness to attend and participate in technical assistance and planning meetings coordinated by the CDC for all cooperative agreement recipients (two staff members, two meetings per year in Atlanta, two days per meeting).

6. Proposed Budget Justification (Not Scored)

The extent to which the applicant's budget includes funds to participate in the CDC required meetings (two staff members, two meetings per year in Atlanta, 2 days per meeting) and includes sufficient funding to support national consultants and program materials directed at perpetrator based CSA prevention.

The applicant should provide a detailed budget request and complete line-item justification of all proposed operating expenses consistent with the stated activities under this program announcement. Applicants should be precise about the purpose of each budget item and should itemize calculations wherever appropriate. The use of the sample budget included in the application kit is encouraged. These funds should not be used to supplant existing efforts.

7. The extent to which the applicant adequately addresses the requirements of Title 45 CFR Part 46 for the protection of human subjects. (Not scored; however, an application can be disapproved if the research risks are sufficiently serious and protection against risks is so inadequate as to make the entire application unacceptable.)

H. Other Requirements

Technical Reporting Requirements

Provide CDC with original plus two copies of the following:

1. Annual progress reports will be submitted as part of the grantee's continuation application. The progress report will include a data requirement that demonstrates measures of effectiveness. Specific guidance will be provided for the content of the progress reports.

2. Financial status report, no more than 90 days after the end of the budget period.

3. Final financial and performance reports, no more than 90 days after the end of the project period.

Send all reports to the Grants Management Specialist identified in the “Where to Obtain Additional Information” section of this announcement.

The following additional requirements are applicable to this program. For a complete description of each, see Attachment I of the application kit.

AR-9 Paperwork Reduction Act Requirements

AR-10 Smoke-Free Workplace Requirements

AR-11 Healthy People 2010

AR-12 Lobbying Restrictions

AR-13 Prohibition on Use of CDC Funds for Certain Gun Control Activities

I. Authority and Catalog of Federal Domestic Assistance Number

This program is authorized under section 301,317,and 391-394 of the Public Health Service Act, [42 U.S.C. 241, 247b, and 280b-280b-3], as amended. The Catalog of Federal Domestic Assistance number is 93.136.

J. Where to Obtain Additional Information

This and other CDC announcements, the necessary applications, and associated forms can be found on the CDC home page Internet address— http://www.cdc.gov Click on “Funding” then “Grants and Cooperative Agreements.”

For business management technical assistance, contact: James Masone, Grants Management Specialist, Procurement and Grants Office, Centers for Disease Control and Prevention, 2920 Brandywine Road, Room 3000, Atlanta, GA 30341-4146, Telephone number: (770) 488-2736, Email address: JMasone@cdc.gov.

For program technical assistance, contact: Janet Saul, PhD, National Center for Injury Prevention and Control, Centers for Disease Control and Prevention, 4770 Buford Hwy, NE, Mailstop K60, Atlanta, GA 30341-1125, Telephone number: (770) 488-4733, Email address: jsaul@cdc.gov.

Dated: June 6, 2002.
Edward Schultz,
Acting Director, Procurement and Grants Office, Centers for Disease Control and Prevention.

[FR Doc. 02-17113 Filed 7-8-02; 8:45 am]

BILLING CODE 4163-18-P